FEDERAL COMMUNICATIONS COMMISSION

47 CFR Part 73

[DA 01-929; MM Docket No. 98-155, RM-9082, RM-9133]

Radio Broadcasting Services; Alva, Mooreland, Tishomingo and Tuttle, OK

AGENCY: Federal Communications Commission.

ACTION: Final rule.

SUMMARY: This document denies a Petition for Reconsideration filed by Ralph Tyler directed to the Report and Order in this proceeding which denied his proposal for to reallot Channel 259C3 from Tishomingo to Tuttle, Oklahoma, and modify his Station KTSH license to specify Tuttle as the community of license. See 65 FR 82296, December 28, 2000. With this action, the proceeding is terminated.

DATES: Effective May 1, 2001.

FOR FURTHER INFORMATION CONTACT: Robert Hayne, Mass Media Bureau (202) 418-2177.

SUPPLEMENTARY INFORMATION: This is a synopsis of the Commission's Memorandum Opinion and Order in MM Docket No. 98-155, adopted April 4, 2001, and released April 13, 2001. The full text of this decision is available for inspection and copying during normal business hours in the FCC Reference Information Center at Portals ll, CY-A257, 445 12th Street, SW., Washington, DC. The complete text of this decision may also be purchased from the Commission's copy contractor, International Transcription Service, Inc., (202) 857-3805, 1231 M Street, NW., Washington, DC 20036.

Federal Communications Commission.
John A. Karousos,
Chief, Allocations Branch, Policy and Rules Division, Mass Media Bureau.

[FR Doc. 01-10703 Filed 4-30-01; 8:45 am]

BILLING CODE 6712-01-P